PEACE CORPS

Information Collection Request; Submission for OMB Review

AGENCY: Peace Corps.

ACTION: 30-Day notice and request for comments.

SUMMARY: The Peace Corps will be submitting the following information collection request to the Office of Management and Budget (OMB) for review and approval. The purpose of this notice is to allow 30 days for public comment in the Federal Register preceding submission to OMB. We are conducting this process in accordance with the Paperwork Reduction Act of 1995 (44 U.S.C. Chapter 35).

DATES: Submit comments on or before June 5, 2014.

ADDRESSES: Interested persons are invited to submit comments regarding this proposal. Comments should refer to the proposal by name/or OMB approval number and should be sent via email to: oira_submission@omb.eop.gov or fax to: 202-395-3086. Attention: Desk Officer for Peace Corps.

FOR FURTHER INFORMATION CONTACT: Denora Miller, FOIA/Privacy Act Officer, Peace Corps, 1111 20th Street NW., Washington, DC 20526, (202) 692-1236, or email at pcfr@peacecorps.gov.

SUPPLEMENTARY INFORMATION: Peace Corps uses the confidential reference form in order to learn from someone, who knows a volunteer applicant and his or her background, whether the applicant possesses the necessary characteristics and skills to serve as a Volunteer.

OMB Control Number: 0420-0006.

Title: Peace Corps Confidential Reference Form.

Type of Review: Revision of a currently approved collection.

Affected Public: Individuals.

Respondents' Obligation to Reply: Voluntary.

Burden to the Public:

a. Average Number of Annual Applicants (complete the application process): 20,000.

b. Number of reference required per applicant: 2.

c. Estimated Number of reference forms received: 40,000.

d. Frequency of response: One time.

e. Completion time: 10 minutes.

f. Annual burden hours: 6,667.

General Description of Collection: The Peace Corps Confidential Reference Form provides information concerning an applicant's skills and character from people who are familiar with the applicant. Such information exists nowhere else. The Placement team in the Office of Volunteer Recruitment and Selection uses the Peace Corps Confidential Reference Form as an integral part of the selection process to determine whether an applicant is likely to succeed as a Peace Corps volunteer.

Request for Comment: Peace Corps invites comments on whether the proposed collection of information is necessary for proper performance of the functions of the Peace Corps, including whether the information will have practical use; the accuracy of the agency's estimate of the burden of the proposed collection of information, including the validity of the information to be collected; and ways to minimize the burden of the collection of information on those who are to respond, including through the use of automated collection techniques, when appropriate, and other forms of information technology.

This notice issued in Washington, DC, on April 30, 2014.
Denora Miller,
FOIA/Privacy Act Officer, Management.

[FR Doc. 2014-10275 Filed 5-5-14; 8:45 am]

BILLING CODE 6051-01-P